DEPARTMENT OF ENERGY

Federal Energy Regulatory Commission

[Project No. 3401-049]

Hydro Nelson, Ltd.; Hydro-WM, LLC; Notice of Transfer of Exemption

1. By documentation filed July 8, 2013 and supplemented on September 4, 2013, Hydro-WM, LLC informed the Commission that the exemption from licensing for the Walker Mill Dam Project, FERC No. 3401, originally issued March 26, 1982,¹ has been transferred to Hydro-WM, LLC. The project is located on the Rockfish River in Nelson County, Virginia. The transfer of an exemption does not require Commission approval.

¹ 18 FERC ¶ 62,525, Order Granting Exemption From Licensing of a Small Hydroelectric Project of 5 Megawatts or Less.

2. Hydro-WM, LLC is now the exemptee of the Walker Mill Dam Project, FERC No. 3401. All correspondence should be forwarded to Mr. Frederic Reveiz, President/Owner, Hydro-WM, LLC, 5272 River Road, Suite 100, Bethesda, MD 20816.

Dated: September 5, 2013.
Kimberly D. Bose,
Secretary.

[FR Doc. 2013-22153 Filed 9-11-13; 8:45 am]

BILLING CODE 6717-01-P